DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of public comment period for the Revised Management Plan for the Sapelo Island National Estuarine Research Reserve.

SUMMARY: Notice is hereby given that the Estuarine Reserves Division, Office of Ocean and Coastal Resource Management, National Ocean Service, National Oceanic and Atmospheric Administration (NOAA), U.S. Department of Commerce is announcing a thirty-day public comment period on the Sapelo Island National Estuarine Research Reserve Management Plan Revision.

The Sapelo Island Reserve (Georgia) was designated in 1976 pursuant to Section 315 of the Coastal Zone Management Act of 1972, as amended, 16 U.S.C. 1461. The Reserve has been operating under a management plan approved in 1999. Pursuant to 15 CFR 921.33(c), a state must revise their management plan every five years. The submission of this plan fulfills this requirement and sets a course for successful implementation of the goals and objectives of the Reserve. New facilities and updated programmatic objectives are notable revisions to the 1999 approved management plan.

The mission of the Sapelo Island Reserve is to perpetuate the protection of the Sapelo Island National Estuarine Research Reserve and to provide a platform for conservation-based research, education and stewardship through the Reserve. The revised management plan identifies priority resource issues that are addressed through active management. These priority issues include addressing public access and visitor impact on Reserve uplands and marsh areas, addressing impacts related to activities on the Reserve by the island's population and addressing the projected increase in development and population growth on the Georgia coast. By addressing these priority resource issues, the Sapelo Island Reserve aims to fulfill its mission.

The revised plan establishes goals and objectives for the Reserve's various programmatic activities, including scientific biological research; water quality monitoring; education, training, and outreach programs; and stewardship programs. It also outlines the plans for future facility development to support reserve operations.

Since 1999, the reserve has realized some aspects of the 1999 plan, including the contributions toward the completion of the Barrier Island Research and Learning Center, a joint research dormitory and lab shared with the University of Georgia.

FOR FURTHER INFORMATION CONTACT: Amy N. Clark at (301) 563-1137 or Laurie McGilvray at (301) 563-1158 of NOAA's National Ocean Service, Estuarine Reserves Division, 1305 East-West Highway, N/ORM5, 10th floor, Silver Spring, MD 20910. For copies of the revised Management Plan for the Sapelo Island National Estuarine Research Reserve visit http://www.sapelonerr.org.

Dated: May 22, 2008.
David M. Kennedy,
Director, Office of Ocean and Coastal Resource Management, National Oceanic and Atmospheric Administration.

[FR Doc. E8-12541 Filed 6-4-08; 8:45 am]

BILLING CODE 3510-22-P